DEPARTMENT OF AGRICULTURE

Forest Service

Siuslaw Resource Advisory Committee Meeting

AGENCY: Forest Service, USDA.

ACTION: Notice of meeting.

SUMMARY: The Siuslaw Resource Advisory Committee (RAC) will meet on August 2, 2002. The meeting will begin at 9 a.m., in the Siuslaw Fire & Rescue Station, 2625 Highway 101 North, Florence, OR. Agenda items will include: An update by the Siuslaw NF Supervisor, feedback on the National Forest Counties & Schools Coalition Conference, 2002 projects status, fiscal adjustments for 2002, counties electronics for 2003, project success stories, Forest Work Camp in one grant, presentation of public projects, presentation of new Forest Service projects, a review of project selection criteria, and a public comment period. The public comment period is expected to begin at approximately 10:05 a.m. The meeting is expected to adjourn at 4 p.m. Interested citizens are encouraged to attend.

FOR FURTHER INFORMATION CONTACT: Linda Stanley, Community Development Specialist, Siuslaw National Forest, 541/750-7210 or write to Forest Supervisor, Siuslaw National Forest, P.O. Box 1148, Corvallis, OR 97339.

Dated: June 28, 2002.
Gloria D. Brown,
Forest Supervisor.

[FR Doc. 02-16941 Filed 7-5-02; 8:45 am]

BILLING CODE 3410-11-M